INTERNATIONAL TRADE COMMISSION

[Investigation Nos. 701-TA-405-406 and 408 and 731-TA-899-901 and 906-908 (Fourth Review)]

Hot-Rolled Steel Products From China, India, Indonesia, Taiwan, Thailand, and Ukraine; Determinations

On the basis of the record ¹ developed in the subject five-year reviews, the United States International Trade Commission (“Commission”) determines, pursuant to the Tariff Act of 1930 (“the Act”), that revocation of the countervailing duty orders on hot-rolled steel products from India, Indonesia, and Thailand and the antidumping duty orders on hot-rolled steel products from China, India, Indonesia, Taiwan, Thailand, and Ukraine would be likely to lead to continuation or recurrence of material injury to an industry in the United States within a reasonably foreseeable time.

¹ The record is defined in § 207.2(f) of the Commission's Rules of Practice and Procedure (19 CFR 207.2(f)).

Background

The Commission instituted these reviews on July 1, 2024 (89 FR 54528) and determined on October 4, 2024 that it would conduct full reviews (89 FR 84397, October 22, 2024). Notice of the scheduling of the Commission's reviews and of a public hearing to be held in connection therewith was given by posting copies of the notice in the Office of the Secretary, U.S. International Trade Commission, Washington, DC, and by publishing the notice in the Federal Register on February 12, 2025 (90 FR 9435). The Commission conducted its hearing on July 24, 2025. All persons who requested the opportunity were permitted to participate.

The Commission made these determinations pursuant to section 751(c) of the Act (19 U.S.C. 1675(c)). It completed and filed its determinations in these reviews on September 19, 2025. The views of the Commission are contained in USITC Publication 5667 (September 2025), entitled Hot-Rolled Steel Products from China, India, Indonesia, Taiwan, Thailand, and Ukraine: Investigation Nos. 701-TA-405-406 and 408 and 731-TA-899-901 and 906-908 (Fourth Review).

By order of the Commission.
Issued: September 19, 2025.
Sharon Bellamy,
Supervisory Hearings and Information Officer.

[FR Doc. 2025-18428 Filed 9-22-25; 8:45 am]

BILLING CODE 7020-02-P